DEPARTMENT OF ENERGY

High Energy Physics Advisory Panel

AGENCY: Office of Science, Department of Energy (DOE).

ACTION: Notice of open meeting.

SUMMARY: This notice announces a hybrid meeting of the DOE/National Science Foundation (NSF) High Energy Physics Advisory Panel (HEPAP). The Federal Advisory Committee Act requires that public notice of these meetings be announced in the Federal Register.

DATES:

Thursday, December 5, 2024; 9 a.m. to 5 p.m. (eastern time).

Friday, December 6, 2024; 9 a.m. to 1 p.m. (eastern time).

ADDRESSES: This meeting is open to the public. This meeting will be held at the Hilton Washington DC/Rockville Hotel & Executive Meeting Center, 1750 Rockville Pike, Rockville, Maryland 20852-1699. Participation through Zoom will also be available. Information to participate can be found on the website closer to the meeting date at https://science.osti.gov/hep/hepap/meetings/.

FOR FURTHER INFORMATION CONTACT: John Kogut, HHEPAP; U.S. Department of Energy; Office of Science; Germantown Building, 1000 Independence Avenue SW, Washington, DC 20585; Telephone: (301) 903-1298; Email: John.Kogut@science.doe.gov.

SUPPLEMENTARY INFORMATION:

Purpose of Meeting: To hear presentations by the DOE and NSF on recent activities of their high energy physics programs. To receive, discuss and vote on the Committee of Visitors (COV) Report on the Facilities Division of HEP.

Tentative Agenda:

• Update from DOE—Regina Rameika

• Update from NSF—Saul Gonzalez

• The DOE Accelerator and Technology Division—Eric Colby

• The DOE CERN Agreements—Abid Patwa

• Report of the HEP Facilities Division Committee of Visitors (COV)—Young-Kee Kim

• Discussion and voting of the COV Report

• Presentation by members of the high energy physics community on recent activities in research, operations, facilities and planning

• DOE Viewpoint on Fermilab—Regina Rameika

Public Participation: The meeting is open to the public. A webcast of this meeting will be available. Please check the website below for updates and information on how to view the meeting. If you would like to file a written statement with the Committee, you may do so either before or after the meeting. If you would like to make oral statements regarding any of these items on the agenda, you should contact John Kogut, (301) 903-1298 or by email at John.Kogut@science.doe.gov. You must make your request for an oral statement at least five business days before the meeting. Reasonable provisions will be made to include the scheduled oral statements on the agenda. If you have any questions or need a reasonable accommodation under the Americans with Disabilities Act for this event, please send your request to John Kogut at John.Kogut@science.doe.gov two weeks but no later than 48 hours, prior to the event. Closed captions will be enabled. The Chairperson of the Panel will conduct the meeting to facilitate the orderly conduct of business. The Chairperson of the Panel will conduct the meeting to facilitate the orderly conduct of business. Public comment will follow the 10-minute rule.

Minutes: The minutes of the meeting will be available on the High Energy Physics Advisory Panel website at https://science.osti.gov/hep/hepap/meetings/.

Signing Authority: This document of the Department of Energy was signed on October 30, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 31, 2024.
Jennifer Hartzell,
Alternate Federal Register Liaison Officer, U.S. Department of Energy.

[FR Doc. 2024-25668 Filed 11-4-24; 8:45 am]

BILLING CODE 6450-01-P